DEPARTMENT OF DEFENSE

GENERAL SERVICES ADMINISTRATION

NATIONAL AERONAUTICS AND SPACE ADMINISTRATION

48 CFR Parts 1, 13, 19, 36 and 53

[FAC 2001-25; FAR Case 2002-017; Item I]

RIN 9000-AJ73

Federal Acquisition Regulation; Elimination of Standard Form 1417

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to eliminate the use of the Standard Form (SF) 1417, Pre-Solicitation Notice (Construction Contract).

DATES: Effective Date: November 4, 2004.

FOR FURTHER INFORMATION CONTACT: The FAR Secretariat at (202) 501-4755 for information pertaining to status or publication schedules. For clarification of content, contact Ms. Cecelia Davis, Procurement Analyst, at (202) 219-0202. Please cite FAC 2001-25, FAR case 2002-017.

SUPPLEMENTARY INFORMATION:

A. Background

This final rule amends FAR parts 1, 13, 19, 36, and 53, deleting the prescription for the use of the SF 1417. This final rule eliminates the use of this form in contracts for construction, alteration or repair, dismantling, demolition, or removal of improvements. The use of the form has become unnecessary because contracting officers are required to provide access to presolicitation notices through the Governmentwide point of entry (GPE) via the Internet at http://www.fedbizopps.gov pursuant to FAR 5.204. This FAR change to eliminate the SF 1417 complements the efforts to increase reliance on electronic business practices in procurement in furtherance of the Administration's commitment to create a citizen-centric E-Government, as outlined in the President's Management Agenda. DOD, GSA, and NASA published a proposed rule in the Federal Register at 68 FR 54294, September 16, 2003. No public comments were received. The Councils agree to convert this proposed rule to a final rule with technical editorial changes.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because the changes are not imposing any additional burden on small business. Small businesses are already aware of the publicizing medium the Government uses via the Internet and have made the necessary adaptation to keep abreast of business opportunities disseminated therein.

C. Paperwork Reduction Act

The Paperwork Reduction Act does apply; however, these changes to the FAR do not impose additional information collection requirements to the paperwork burden previously approved under OMB Control Number 9000-0037. This change has reduced the paperwork burden and no additional approval from OMB is required. The collection will be revised to reflect this reduction.

This final rule eliminates the use of Standard Form 1417 in contracts for construction, alteration or repair, dismantling, demolition, or removal of improvements but not the requirement for contracting officers to provide access to presolicitation notices through the Governmentwide point of entry via the Internet at http://www.fedbizopps.gov.

Requester may obtain a copy of the information collection from the General Services Administration, FAR Secretariat (V), Room 4035, Washington, DC 20405, telephone (202) 501-4755. Please cite OMB Control Number 9000-0037, Presolicitation Notice and Response, Standard Form 1417, in all correspondence.

List of Subjects in 48 CFR Parts 1, 13, 19, 36 and 53

Government procurement.

Dated: September 28, 2004.
Ralph J. De Stefano,
Acting Director, Contract Policy Division.

Therefore, DoD, GSA, and NASA amend 48 CFR parts 1, 13, 19, 36, and 53 as set forth below:

1. The authority citation for 48 CFR parts 1, 13, 19, 36, and 53 is revised to read as follows:

Authority: 40 U.S.C. 121(c); 10 U.S.C. chapter 137; and 42 U.S.C. 2473(c).

PART 1—FEDERAL ACQUISITION REGULATIONS SYSTEM

1.106 [Amended]

2. Amend section 1.106 in the table following the introductory paragraph by removing FAR segment “36.701” and its corresponding OMB Control Number “9000-0037” removing FAR segment “53.236-1(a)” and its corresponding OMB Control Number “9000-0037”; and removing FAR segment “SF 1417” and its corresponding OMB Control Number “9000-0037”.

PART 13—SIMPLIFIED ACQUISITION PROCEDURES

13.003 [Amended]

3. Amend section 13.003 in paragraph (g)(1) by removing “36.701(b)” and adding “36.701(a)” in its place.

PART 19—SMALL BUSINESS PROGRAMS

19.811-1 [Amended]

4. Amend section 19.811-1 in the last sentence of paragraph (a) by removing “36.701(b)” and adding “36.701(a)” in its place.

PART 36—CONSTRUCTION AND ARCHITECT ENGINEER CONTRACTS

36.213-2 [Amended]

5. Amend section 36.213-2—

a. In the first sentence of paragraph (a) by removing “send” and adding “issue” in its place; and removing “to prospective bidders”;

b. By removing paragraph (b)(6) and redesignating paragraphs (b)(7), (b)(8), and (b)(9) as (b)(6), (b)(7), and (b)(8), respectively.

36.701 [Amended]

6. Amend section 36.701 by removing paragraph (a) and redesignating paragraphs (b), (c), (d), and (e) as (a), (b), (c), and (d), respectively.

PART 53—FORMS

53.213 [Amended]

7. Amend section 53.213 in paragraph (f)(4) by removing “36.701(c)” and adding “36.701(b)” in its place.

53.236-1 [Amended]

8. Amend section 53.236-1 by removing paragraph (a) and redesignating paragraphs (b), (c), (d), (e), (f), and (g) as (a), (b), (c), (d), (e), and (f), respectively; in newly redesignated paragraph (a) by removing “36.701(e)” and adding “36.701(d)” in its place; in newly redesignated paragraph (d)(2) by removing “36.701(b)” and adding “36.701(a)” in its place; in newly redesignated paragraph (e)(2) by removing “36.701(c)” and adding “36.701(b)” in its place; and in newly redesignated paragraph (f) by removing “36.701(d)” and adding “36.701(c)” in its place.

53.301-1417 [Removed]

9. Remove section 53.301-1417.

[FR Doc. 04-22244 Filed 10-4-04; 8:45 am]

BILLING CODE 6820-EP-S